DEPARTMENT OF TRANSPORTATION

Federal Aviation Administration

14 CFR Part 71

[Docket No. FAA-2022-1424; Airspace Docket No. 22-AEA-11]

RIN 2120-AA66

Amendment of VOR Federal Airways V-268 and V-474, Revocation of Jet Route J-518 and VOR Federal Airway V-119, and Establishment of Area Navigation Route Q-178 in the Vicinity of Indian Head, PA

AGENCY: Federal Aviation Administration (FAA), DOT.

ACTION: Final rule.

SUMMARY: This action amends Very High Frequency (VHF) Omnidirectional Range (VOR) Federal airways V-268 and V-474, revokes Jet Route J-518 and VOR Federal airway V-119, and establishes Area Navigation (RNAV) route Q-178. The FAA is taking this action due to the planned decommissioning of the VOR portion of the Indian Head, PA, VOR/Tactical Air Navigation (VORTAC) navigational aid (NAVAID). The Indian Head VOR is being decommissioned in support of the FAA's VOR Minimum Operational Network (MON) program.

DATES: Effective date 0901 UTC, June 15, 2023. The Director of the Federal Register approves this incorporation by reference action under 1 CFR part 51, subject to the annual revision of FAA Order JO 7400.11 and publication of conforming amendments.

ADDRESSES: A copy of the NPRM, all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the ATS route structure as necessary to preserve the safe and efficient flow of air traffic within the National Airspace System.

History

The FAA published a notice of proposed rulemaking for Docket No. FAA-2022-1424 in the Federal Register (87 FR 72904; November 28, 2022), amending VOR Federal airways V-268 and V-474, revoking Jet Route J-518 and VOR Federal airway V-119, and establishing Area Navigation (RNAV) route Q-178 due to the planned decommissioning of the VOR portion of the Indian Head, PA, VORTAC NAVAID. Interested parties were invited to participate in this rulemaking effort by submitting written comments on the proposal. No comments were received.

Differences From the NPRM

In the NPRM, the FAA erroneously stated that, although the VOR portion of the Indian Head VORTAC was planned for decommissioning, the co-located Distance Measuring Equipment (DME) would be retained. Instead, the co-located Tactical Air Navigation (TACAN) is being retained to provide navigational service for military operations and DME service in support of current and future Next Generation Air Transportation System Performance Based Navigation procedures. This does not affect the changes to the airways in this rule.

Incorporation by Reference

Jet Routes are published in paragraph 2004, United States Area Navigation Routes (Q-routes) are published in paragraph 2006, and VOR Federal airways are published in paragraph 6010(a) of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending VOR Federal airways V-268 and V-474, revoking Jet Route J-518 and VOR Federal airway V-119, and establishing RNAV route Q-178. The Air Traffic Service (ATS) route amendments, revocations, and establishment are required due to the planned decommissioning of the Indian Head, PA, VOR and are described below.

J-518: J-518 extends between the Dryer, OH, VOR/Distance Measuring Equipment (VOR/DME) and the Baltimore, MD, VORTAC via the Indian Head, PA, VORTAC. The route is removed in its entirety.

Q-178: Q-178 is a new RNAV route extending between the Dryer, OH, VOR/DME and the Baltimore, MD, VORTAC via the LEJOY, PA, Fix located approximately 4 nautical miles (NM) northwest of the Indian Head VORTAC. The new Q-178 provides the high altitude enroute structure necessary to replace the loss of J-518 and maintain the connectivity to multiple instrument approach procedures for various airports.

V-119: V-119 extends between the Parkersburg, WV, VOR/DME and the Indian Head, PA, VORTAC. The airway is removed in its entirety.

V-268: V-268 extends between the intersection of the Morgantown, WV, VOR/DME 010° and Johnstown, PA, VOR/DME 260° radials (NESTO Fix) and the Augusta, ME, VOR/DME. The airspace within restricted area R-4001B and the airspace below 2,000 feet mean sea level (MSL) outside the United States is excluded. The airway segment overlying the Indian Head VORTAC between the NESTO Fix and the Hagerstown, MD, VOR is removed. As amended, the airway extends between the Hagerstown VOR and the Augusta VOR/DME. The exclusionary language remains unchanged.

V-474: V-474 extends between the intersection of the Morgantown, WV, VOR/DME 010° and Johnstown, PA, VOR/DME 260° radials (NESTO Fix) and the Modena, PA, VORTAC. The airway segment overlying the Indian Head VORTAC between the NESTO Fix and the St. Thomas, PA, VORTAC is removed. As amended, the airway extends between the St. Thomas VORTAC and the Modena VORTAC.

The NAVAID radials listed in the ATS route descriptions below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-268 and V-474, revoking Jet Route J-518 and VOR Federal airway V-119, and establishing RNAV route Q-178, due to the planned decommissioning of the VOR portion of the Indian Head, PA, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 2004 Jet Routes.

* * * * *

J-518 [Removed]

* * * * *

Paragraph 2006 United States Area Navigation Routes.

* * * * *

Q-178 Dryer, OH (DJB) to Baltimore, MD (BAL) [New]
Dryer, OH (DJB) | VOR/DME | (Lat. 41°21′29.03″ N, long. 082°09′43.09″ W)
LEJOY, PA | FIX | (Lat. 40°00′12.22″ N, long. 079°24′53.61″ W)
Baltimore, MD (BAL) | VORTAC | (Lat. 39°10′15.83″ N, long. 076°39′40.52″ W)

* * * * *

Paragraph 6010(a) Domestic VOR Federal airways.

* * * * *

V-119 [Removed]

* * * * *

V-268 [Amended]

From Hagerstown, MD; Westminster, MD; Baltimore, MD; INT Baltimore 093° and Smyrna, DE, 262° radials; Smyrna; INT Smyrna 086° and Sea Isle, NJ, 050° radials; INT Sea Isle 050° and Hampton, NY, 223° radials; Hampton; Sandy Point, RI; INT Sandy Point 031° and Kennebunk, ME, 180° radials; INT Kennebunk 180° and Boston, MA, 032° radials; INT Boston 032° and Augusta, ME, 195° radials; to Augusta. The airspace within R-4001B and the airspace below 2,000 feet MSL outside the United States is excluded.

* * * * *

V-474 [Amended]

From St. Thomas, PA; INT St. Thomas 088° and Modena, PA, 274° radials; to Modena.

* * * * *

Issued in Washington, DC, on March 20, 2023.
Brian Konie,
Acting Manager, Airspace Rules and Regulations.

[FR Doc. 2023-06102 Filed 3-24-23; 8:45 am]

BILLING CODE 4910-13-P